DEPARTMENT OF DEFENSE

Office of the Secretary

[Docket ID DoD-2021-OS-0035]

Proposed Collection; Comment Request

AGENCY: The Under Secretary of Defense for Intelligence, Department of Defense (DoD).

ACTION: Information collection notice.

SUMMARY: In compliance with the Paperwork Reduction Act of 1995, the Defense Counterintelligence and Security Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 6, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Counterintelligence and Security Agency, 27130 Telegraph Rd., Quantico, VA 22134, ATTN: Ms. Donna McLeod, or call 443-698-8248.

SUPPLEMENTARY INFORMATION: Title; Associated Form; and OMB Number: General Request for Investigative Information (INV 40), Employment Data and Supervisor Information (INV 41), Personal Information (INV 42), Educational Registrar and Dean of Students Record Data (INV 43), Law Enforcement Data (INV 44); INV Forms 40-44; OMB Control Number 0705-0003.

Needs and Uses: The information collected on the INV Forms 40-44 is used for Federal and Federal contract employment. The forms are used to collect information from a multitude of record sources to support federal background investigation and personnel vetting processes such as: investigations and determinations of eligibility for access to classified national security information, and for access to special access programs; suitability for federal employment; fitness of contractor personnel to perform work for or on behalf of the U.S. Government; and Homeland Security Presidential Directive (HSPD)-12 determinations for Personal Identity Verification (PIV) credentials to gain logical or physical access to government facilities and systems. The content of the INV forms is also designed to meet notice requirements for personnel investigations specified by 5 CFR 736.102(c). These notice requirements apply to any “investigation . . . to determine the suitability, eligibility, or qualifications of individuals for Federal employment, for work on Federal contracts, or for access to classified information or restricted areas.” None of the forms are used for any purpose other than a personnel background investigation, as described above.

Affected Public: Individuals or households; Businesses or other for-profit; Not-for-profit Institutions; State, Local or Tribal Government.

Annual Burden Hours: 215,935.75.

Number of Respondents: 2,591,229.

Responses per Respondent: 1.

Annual Responses: 2,591,229.

Average Burden per Response: 5 minutes.

Frequency: As Required.

Procedurally, the subject of a personnel background investigation discloses the identity of relevant sources, such as supervisors, coworkers, neighbors, friends, current or former spouses, instructors, relatives, or schools attended, on the standard form (SF) 85, Questionnaire for Non-Sensitive Positions; the SF 85P, Questionnaire for Public Trust Positions; or the SF 86, Questionnaire for National Security Positions. The INV forms are distributed to the provided source contacts identified on the standard form questionnaire through an automated mailing operation. The forms disclose that the source's contact information was provided by the subject to assist in completing a background investigation regarding the subject's eligibility for employment or security clearance, and request that the source complete the form to help in this determination. The INV form is completed, hardcopy, by the noted source; then returned, in a self-addressed envelope, to the DCSA investigations processing center. The completed forms are maintained by DCSA subject to the provisions of the Privacy Act of 1974, as amended, and the DUSDI-02 Personnel Vetting Records System SORN.

Dated: May 3, 2021.
Aaron T. Siegel,
Alternate OSD Federal Register Liaison Officer, Department of Defense.

[FR Doc. 2021-09749 Filed 5-6-21; 8:45 am]

BILLING CODE 5001-06-P